DEPARTMENT OF AGRICULTURE

Food Safety and Inspection Service

9 CFR Parts 391, 590, and 592

[Docket No. 03-027P]

RIN 0583-AD12

Changes in Fees for Meat, Poultry, and Egg Products Inspection Services—Fiscal Years 2005-2008

Correction

In proposed rule document 05-14296 beginning on page 41635 in the issue of July 20, 2005, make the following correction:

On page 41638, in Table 5, in the second column, in the entry second from the bottom, the Travel and Operating Costs figure should read, “8.28.”

[FR Doc. C5-14296 Filed 8-15-05; 8:45 am]

BILLING CODE 1505-01-D

ENVIRONMENTAL PROTECTION AGENCY

40 CFR Part 52

[RME Docket Number R08-OAR-2004-CO-0005; FRL-7936-9]

Clean Air Act Approval and Promulgation of Air Quality Implementation Plan Revision for Colorado; Long-Term Strategy of State Implementation Plan for Class 1 Visibility Protection

Correction

In proposed rule document 05-15053 appearing on page 44075 in the issue of Monday, August 1, 2005, make the following correction:

In the first column, under the heading SUMMARY, in the 16th line, “controversial” should read “noncontroversial”.

[FR Doc. C5-15053 Filed 8-15-05; 8:45 am]

BILLING CODE 1505-01-D

ENVIRONMENTAL PROTECTION AGENCY

40 CFR Part 81

[FRL-7947-4]

Identification of Ozone Areas for Which the 1-Hour Standard Has Been Revoked and Technical Correction to Phase 1 Rule

Correction

In rule document 05-15218 beginning on page 44470 in the issue of Wednesday, August 3, 2005, make the following corrections:

§81.305 [Corrected]

1. On page 44475, in §81.305, in the first column, the heading “California—Ozone (1-Hour Standard)²” should read “California—Ozone (1-Hour Standard)⁴”.

2. On the same page, in §81.305, in the first column, under the corrected heading “California—Ozone (1-Hour Standard)⁴”, in the second line, “²” should read “⁴”.

[FR Doc. C5-15218 Filed 8-15-05; 8:45 am]

BILLING CODE 1505-01-D

SECURITIES AND EXCHANGE COMMISSION

[Release No. 34-52131; File No. SR-NASD-2005-093]

Self-Regulatory Organizations; National Association of Securities Dealers, Inc; Notice of Filing and Immediate Effectiveness of Proposed Rule Change Relating to Amendments to NASD Rule 3370

Correction

In notice document E5-4117 beginning on page 44707 in the issue of Wednesday, August 3, 2005, make the following correction:

On page 44709, in the first column, in the first full paragraph, in the last last line, “August 23, 2005” should read “August 24, 2005”.

[FR Doc. Z5-4117 Filed 8-15-05; 8:45 am]

BILLING CODE 1505-01-D

DEPARTMENT OF TRANSPORTATION

Federal Aviation Administration

14 CFR Part 71

[Docket No. FAA-2005-21337; Airspace Docket No. 05-ACE-16]

Establishment of Class E2 Airspace; and Modification of Class E5 Airspace; Storm Lake, IA

Correction

In rule document 05-15311 beginning on page 44465 in the issue of Wednesday, August 3, 2005, make the following corrections:

§ 71.1 [Corrected]

1. On page 44466, in § 71.1, in the first column, under Paragraph 6002 Class E airspace designated as surface areas., in the second line, “ACT IA E2 Storm Lake, IA”, should read “ACE IA E2 Storm Lake, IA”.

2. On the same page, in § 71.1, in the first column, under Paragraph 6005 Class E airspace areas extending upward from 700 feet or more above the surface of the earth., in the second line, “ACT IA E5 Storm Lake, IA” should read “ACE IA E5 Storm Lake, IA”.

[FR Doc. C5-15311 Filed 8-15-05; 8:45 am]

BILLING CODE 1505-01-D